DEPARTMENT OF THE INTERIOR

Fish and Wildlife Service

[FWS-R1-R-2013-N048; 12560-0000-10137 S3]

Bear Lake National Wildlife Refuge, Bear Lake County, ID, and Oxford Slough Waterfowl Production Area, Franklin and Bannock Counties, ID; Final Comprehensive Conservation Plan and Finding of No Significant Impact

AGENCY: Fish and Wildlife Service, Interior.

ACTION: Notice of availability.

SUMMARY: We, the U.S. Fish and Wildlife Service (Service), announce the availability of the final Comprehensive Conservation Plan (CCP) and Finding of No Significant Impact (FONSI) for the Environmental Assessment (EA) for the Bear Lake National Wildlife Refuge (NWR, refuge), 7 miles south of Montpelier, Idaho; the refuge-managed Thomas Fork Unit (Unit) in Montpelier; and the Oxford Slough Waterfowl Production Area (WPA) in Oxford, Idaho. The final CCP describes how we will manage the refuge and WPA for the next 15 years.

ADDRESSES: You may view or obtain copies of the final CCP and FONSI by any of the following methods. You may request a hard copy or a CD of the document.

Agency Web site: Download the final CCP and FONSI at http://www.fws.gov/bearlake/refuge_planning.html.

Email: FW1PlanningComments@fws.gov. Include “Bear Lake NWR CCP” in the subject line of the message.

U.S. Mail: Annette de Knijf, Refuge Manager, Bear Lake NWR, Box 9, Montpelier, ID 83254.

In-Person Viewing or Pickup: Call 208-847-1757 to make an appointment during regular business hours at the Refuge Headquarters at 322 North 4th St. (Oregon Trail Center), Montpelier, ID. For more information on locations for viewing or obtaining documents, see “Public Availability of Documents” under SUPPLEMENTARY INFORMATION.

FOR FURTHER INFORMATION CONTACT: Annette de Knijf, Refuge Manager, Bear Lake NWR, 322 North 4th St. (Oregon Trail Center), Montpelier, ID 83254; phone (208) 847-1757.

SUPPLEMENTARY INFORMATION:

Introduction

With this notice, we finalize the CCP process for Bear Lake National Wildlife Refuge in Bear Lake County, Idaho, and the Oxford Slough Waterfowl Production Area in Franklin and Bannock Counties, Idaho. We started this process through a notice in the Federal Register (75 FR 35829; June 23, 2010). We released the draft CCP/EA to the public, announcing and requesting comments in a notice of availability in the Federal Register (77 FR 59639; September 28, 2012). For more information about the history and purposes of the refuge and WPA, see that notice.

We announce our decision and the availability of the FONSI for the CCP for Bear Lake NWR and Oxford Slough WPA in accordance with National Environmental Policy Act (NEPA) (40 CFR 1506.6(b)) requirements. We completed a thorough analysis of impacts on the human environment, which we included in the draft CCP/EA.

The final CCP will guide us in managing and administering the refuge and WPA for the next 15 years. Alternative 3, as we described in the draft CCP/EA, forms the basis of the final CCP.

Background

The CCP Process

The National Wildlife Refuge System Administration Act of 1966, as amended by the National Wildlife Refuge System Improvement Act of 1997 (together referred to as the Refuge Administration Act), 16 U.S.C. 668dd-668ee, requires us to develop a CCP for each national wildlife refuge. The purpose for developing a CCP is to provide refuge managers with a 15-year plan for achieving refuge purposes and contributing toward the mission of the National Wildlife Refuge System, consistent with sound principles of fish and wildlife management, conservation, legal mandates, our policies, and NEPA. In addition to outlining broad management direction on conserving wildlife and their habitats, CCPs identify compatible wildlife-dependent recreational opportunities available to the public, including opportunities for hunting, fishing, wildlife observation and photography, and environmental education and interpretation. We will review and update each CCP at least every 15 years in accordance with the Refuge Administration Act. Implementing a CCP is subject to the availability of funding and any additional compliance requirements.

CCP Selected Alternative

To address issues identified during our CCP planning process, we developed and evaluated alternatives and identified the preferred alternative for the refuge and WPA. The preferred alternative, which was selected for the CCP, is briefly summarized below. For full details of all the alternatives, please review the draft CCP/EA (see the Public Availability of Documents section for ways to view or obtain the CCP/EA).

Selected Alternative (Alternative 3)

Under the Selected Alternative we will continue to provide habitat for waterfowl breeding and fall migration at Bear Lake NWR. We will use water level manipulations and other strategies to provide a variety of wetland habitats that benefit a wide range of priority species. Water in the individual wetland units of Bear Lake NWR will be managed to simulate natural hydrologic variability (normal, drought, and flood conditions), while providing a consistent annual acreage of wetland habitat types across the refuge. We will continue to work with PacifiCorp to manage water levels on the refuge for wildlife and habitat while abiding by the stipulations of the Bear River Compact and the 1968 Agreement between PacifiCorp and the Service. We will reduce meadow and upland haying operations on Bear Lake NWR, the Thomas Fork Unit, and Oxford Slough WPA by 44 percent (3,533 acres to 1,492 acres) over the next 15 years, with three 5-year cycles. Farming will be reduced from 214 acres to 154 acres. Former cropland and hayed areas will be restored to native wet meadow or grassland communities.

We will work in partnership with PacifiCorp and other stakeholders to study and consult on the effects, desirability, and feasibility of reducing sediment loading in the Mud Lake Complex of Bear Lake NWR. We will analyze the feasibility of, and make recommendations on, techniques to exclude carp and non-native game fish within the Mud Lake Complex, and work in partnership with PacifiCorp and the Idaho Department of Fish and Game to study and consult on the effects of fish passage at irrigation diversions and water control structures within the Refuge.

We will manage water at the Thomas Fork Unit to simulate natural hydrologic variability (normal, drought, and flood conditions), restore stream habitat on the Thomas Fork Unit for spawning Bonneville cutthroat trout, and pursue increased reliability of late season water at Oxford Slough WPA to benefit nesting waterfowl and waterbirds.

Public uses that are currently allowed on the refuge and WPA will continue. The Thomas Fork Unit will continue to be closed to public use. We will construct additional facilities to support wildlife observation, photography, environmental education, interpretation, and fishing at Bear Lake NWR. Plans for a combined refuge office and small visitor contact station with an environmental education classroom on or near the refuge will be developed within 5 years of CCP completion, and we will seek funding to construct these facilities. We will establish a visitor services position in the Southeast Idaho Complex that will serve all refuges in the Complex. This will allow the refuge to recruit and train volunteers that would assist in providing expanded wildlife-dependent recreation opportunities.

Hunting of waterfowl, small game (cottontails), and upland birds (gray partridge, grouse, ring-necked pheasant) will continue to be allowed on 7,450 acres (40 percent) of Bear Lake NWR, with enhancements to improve access. Hunting of waterfowl, small game, upland game birds, big game, and trapping of furbearers will continue to be allowed on the Oxford Slough WPA in accordance with State regulations.

Comments

We solicited public comments on the draft CCP/EA for 30 days, from September 28 to October 29, 2012 (77 FR 59639). We received comments from 14 entities. To address public comments received on the draft CCP/EA, responsive changes and clarifications were made to the final CCP where appropriate. These changes are summarized in the FONSI. The major changes follow.

• The strategy “In partnership with PacifiCorp, Idaho Department of Fish and Game, and other partners, construct four fish passage ladder projects on the Rainbow bridge; Paris Creek, Paris Dike, and Bloomington Creek to increase fish spawning passage and reconnect the two most genetically viable populations of Bonneville cutthroat trout in the Bear River by 2027” was changed to: “Throughout the lifetime of the CCP, work in partnership with PacifiCorp and the Idaho Department of Fish and Game to study and consult on the effects of fish passage at irrigation diversions and water control structures within the refuge.”

• The strategy “Implement feasibility and engineering studies on techniques to further reduce sediment loading within the Mud Lake Complex. By 2020, provide recommendations to reduce the sedimentation rate of Bear River water diversions and better facilitate carp and non-native game fish exclusion” was changed to: “Work in partnership with PacifiCorp and other stakeholders to study and consult on the effects, desirability, and feasibility of reducing sediment loading in the Mud Lake Unit.” The strategy “By 2020, provide recommendations to better facilitate carp and non-native game fish exclusion” was added.

Selected Alternative

After considering the comments received, we have selected Alternative 3 for implementation. The goals, objectives, and strategies under Alternative 3 best achieve the purpose and need for the CCP while maintaining balance among the varied management needs and programs. Alternative 3 addresses the purposes, issues, and relevant mandates of the refuge and WPA and is consistent with principles of sound fish and wildlife management.

Public Availability of Documents

In addition to the information in ADDRESSES, you can view copies of the draft CCP/EA on the internet at http://www.fws.gov/bearlake/refuge_planning.html, and printed copies will be available for review at the following libraries: Bear Lake County Library, 138 North 6th Street, Montpelier, ID 83254; Larsen-Sant Public Library, 109 South 1st East, Preston, ID 83263.

Dated: February 27, 2013.
Richard Hannan,
Acting Regional Director, Pacific Region, U.S. Fish and Wildlife Service.

[FR Doc. 2013-13046 Filed 6-3-13; 8:45 am]

BILLING CODE 4310-55-P